DEPARTMENT OF VETERANS AFFAIRS

[OMB Control No. 2900-0882]

Agency Information Collection Activity Under OMB Review: Chapter 31 Request for Assistance

AGENCY: Veterans Benefits Administration, Department of Veterans Affairs.

ACTION: Notice.

SUMMARY: In compliance with the Paperwork Reduction Act (PRA) of 1995, this notice announces that the Veterans Benefits Administration, Department of Veterans Affairs, will submit the collection of information abstracted below to the Office of Management and Budget (OMB) for review and comment. The PRA submission describes the nature of the information collection and its expected cost and burden and it includes the actual data collection instrument.

DATES: Written comments and recommendations for the proposed information collection should be sent within 30 days of publication of this notice to www.reginfo.gov/public/do/PRAMain. Find this particular information collection by selecting “Currently under 30-day Review—Open for Public Comments” or by using the search function. Refer to “OMB Control No. 2900-0882.

FOR FURTHER INFORMATION CONTACT: Danny S. Green, Enterprise Records Service (005R1B), Department of Veterans Affairs, 811 Vermont Avenue NW, Washington, DC 20420, (202) 421-1354 or email danny.green2@va.gov. Please refer to “OMB Control No. 2900-0882” in any correspondence.

SUPPLEMENTARY INFORMATION:

Authority: 38 U.S.C. 3100, 38 U.S.C. 501.

Title: Chapter 31 Request for Assistance (VA Form 28-10212).

OMB Control Number: 2900-0882.

Type of Review: Extension of a currently approved collection.

Abstract: VA Form 28-10212 is used to gather specific information regarding a claimant's request for services, supplies, or equipment that are necessary to participate in the Chapter 31 program.

An agency may not conduct or sponsor, and a person is not required to respond to a collection of information unless it displays a currently valid OMB control number. The Federal Register Notice with a 60-day comment period soliciting comments on >this collection of information was published at insert citation date, 85 FR 182 on September, 18, 2020, pages 58428 and 58429.

Affected Public: Individuals.

Estimated Annual Burden: 83.

Estimated Average Burden per Respondent: 10 minutes.

Frequency of Response: One time.

Estimated Number of Respondents: 500.

By direction of the Secretary.
Danny S. Green,
VA PRA Clearance Officer, Office of Quality, Performance and Risk, Department of Veterans Affairs.

[FR Doc. 2020-26566 Filed 12-1-20; 8:45 am]

BILLING CODE 8320-01-P